DEPARTMENT OF AGRICULTURE

Rural Utilities Service

Treasury Rate Loan Program

AGENCY: Rural Utilities Service, USDA.

ACTION: Notice.

SUMMARY: On December 22, 2000, the Rural Utilities Service (RUS), United States Department of Agriculture (USDA), published a Notice of Funding Availability (NOFA) in the Federal Register at 65 FR 80830 announcing the availability of $500 million in direct Treasury rate electric loans for fiscal year (FY) 2001. RUS is distributing direct Treasury rate electric loans by offering those municipal rate electric loan applicants whose qualified applications were pending at the time of the enactment of Pub. L. 106-387 the option of selecting the direct Treasury rate in lieu of the municipal rate for their loans. RUS is contacting applicants in the order of priority that their applications for municipal rate loans would otherwise have been funded using the loan processing priorities published in 7 CFR 1710.119.

The NOFA stated that RUS expected the $500 million in available funding would be exhausted on or before July 1, 2001. As of June 15, 2001, RUS had approved $473 million of Treasury rate electric loans. Borrowers have committed to switch an additional $17 million of pending qualifying applications to the new program. It is anticipated that the remaining balance of funds available will come from the backlog of qualifying applications for loans from RUS under the Rural Electrification Act.

As of May 31, 2001, the backlog for municipal rate loans is approximately $ 426 million. With this fact in mind, RUS fully anticipates to obligate loans for the full amount of the Treasury rate program by September 1, 2001, as stated in the NOFA. Therefore publication of regulations to allocate the small balance currently outstanding will not be necessary.

FOR FURTHER INFORMATION CONTACT: Robert O. Ellinger, Chief, Policy Analysis and Loan Management Staff, U. S. Department of Agriculture, Rural Utilities Service, Electric Program, Room 4023 South Building, Stop 1560, 1400 Independence Ave., SW., Washington, DC 20250-1560, Telephone: 202-720-0424, E-mail rellinge@rus.usda.gov.

Dated: June 28, 2001.
Blaine D. Stockton,
Acting Administrator, Rural Utilities Service.

[FR Doc. 01-16972 Filed 7-5-01; 8:45 am]

BILLING CODE 3410-15-P